DEPARTMENT OF ENERGY

Federal Energy Regulatory Commission

[Docket Nos. CP02-142-004 and CP01-260-003]

Columbia Gas Transmission Corporation; Notice of Compliance Filing

October 10, 2003.

Take notice that on October 1, 2003, Columbia Gas Transmission Corporation (Columbia) tendered for filing filed the following revised tariff sheet to its FERC Gas Tariff, Second Revised Volume No. 1, bearing a proposed effective date of November 1, 2003:

Fifth Revised Sheet No. 500B

On December 20, 2002, the Commission issued an Order Issuing Certificate, Granting Abandonment Authority, and Vacating Certificate in the above-referenced proceedings (the Certificate Order). Ordering Paragraph D provided that, [w]ithin 30 days before the commencement of service, Columbia must file its executed service agreements as discussed in the body of this order. Ordering Paragraph E provided that, [b]etween 30 and 60 days before the commencement of service, Columbia must file a revised tariff sheet adding its project service agreements to its list of non-conforming service agreements in its tariff.

Columbia states that the appropriate non-conforming provisions have been removed, and the FTS Service Agreements are now in a form approved by the Commission in the Certificate Order.

Columbia states that copies of its filing and have been mailed to all firm customers, interruptible customers, and affected state commissions.

Any person desiring to protest said filing should file a protest with the Federal Energy Regulatory Commission, 888 First Street, NE., Washington, DC 20426, in accordance with Section 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the “eLibrary” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See, 18 CFR 385.2001(a)(1)(iii) and the instructions on the Commission's web site under the eLibrary (e-Filing) link.

Protest Date: October 15, 2003.

Magalie R. Salas,
Secretary.

[FR Doc. E3-00099 Filed 10-21-03; 8:45 am]

BILLING CODE 6717-01-P